DEPARTMENT OF TRANSPORTATION

Federal Aviation Administration

14 CFR Part 39

[Docket No. FAA-2023-1879; Project Identifier AD-2023-00286-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2019-16-05, which applies to all The Boeing Company Model 777 airplanes. AD 2019-16-05 requires an identification of the part number, and if applicable the serial number, of the Captain's and First Officer's seats, and applicable on-condition actions for affected seats. Since the FAA issued AD 2019-16-05, the FAA has discovered that certain seat part numbers had been inadvertently omitted from the inspection requirements of AD 2019-16-05. This proposed AD would retain the requirements of AD 2019-16-05 and would add inspection of the previously omitted part numbers. The FAA is proposing this AD to address the unsafe condition on these products.

DATES: The FAA must receive comments on this proposed AD by November 13, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1879; or in person at Docket Operations between 9 a.m. and 5 p.m., Monday through Friday, except Federal holidays. The AD docket contains this NPRM, any comments received, and other information. The street address for Docket Operations is listed above.

Material Incorporated by Reference:

• For service information identified in this NPRM, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov under Docket No. FAA-2023-1879.

FOR FURTHER INFORMATION CONTACT: Courtney Tuck, Aviation Safety Engineer, FAA, 2200 South 216th St., Des Moines, WA 98198; phone: 206-231-3986; email: courtney.k.tuck@faa.gov.

SUPPLEMENTARY INFORMATION:

Comments Invited

The FAA invites you to send any written relevant data, views, or arguments about this proposal. Send your comments to an address listed under ADDRESSES. Include “Docket No. FAA-2023-1879; Project Identifier AD-2023-00286-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Courtney Tuck, Aviation Safety Engineer, FAA, 2200 South 216th St., Des Moines, WA 98198; phone: 206-231-3986; email: courtney.k.tuck@faa.gov. Any commentary that the FAA receives that is not specifically designated as CBI will be placed in the public docket for this rulemaking.

Background

The FAA issued AD 2019-16-05, Amendment 39-19708 (84 FR 45895, September 23, 2019) (AD 2019-16-05), for all The Boeing Company Model 777-200, -200LR, -300, -300ER, and 777F series airplanes. AD 2019-16-05 was prompted by reports of uncommanded fore/aft movements of the Captain's and First Officer's seats. AD 2019-16-05 requires an identification of the part number, and if applicable the serial number, of the Captain's and First Officer's seats, and applicable on-condition actions for affected seats. The FAA issued AD 2019-16-05 to address uncommanded fore/aft movement of the Captain's and First Officer's seats. An uncommanded fore/aft seat movement during a critical part of a flight, such as takeoff or landing, could cause a flight control obstruction or unintended flight control input, which could result in the loss of the ability to control the airplane.

Actions Since AD 2019-16-05 Was Issued

Since the FAA issued AD 2019-16-05, certain seat part numbers were discovered to have been inadvertently omitted from the service information, and were therefore not included in the requirements of AD 2019-16-05.

FAA's Determination

The FAA is issuing this NPRM after determining that the unsafe condition described previously is likely to exist or develop on other products of the same type design.

Related Service Information Under 1 CFR Part 51

The FAA reviewed Boeing Special Attention Service Bulletin 777-25-0607, Revision 2, dated January 27, 2023. The service information describes procedures for identification of the part number, and if applicable, the serial number, of the Captain's and First Officer's seats, and for applicable on-condition actions for affected seats. The on-condition actions include an inspection of each seat's fore/aft and vertical manual control levers for looseness, installation of serviceable seats, and a seat functional test after any cable adjustment.

The FAA also reviewed Boeing Special Attention Service Bulletin 777-25-0619, Revision 2, dated January 27, 2023. The service information describes procedures for a detailed inspection and repetitive checks of the horizontal movement system for the Captain's and First Officer's seats for findings (e.g., evidence of cracks, scores, corrosion, dents, deformation or visible wear; and incorrectly assembled microswitch assemblies, actuators, and limit switches), and applicable on-condition actions. The on-condition actions include clearing the seat tracks of foreign object debris (FOD), overhauling the horizontal movement system, and replacing the horizontal actuator. The service information also describes procedures for an optional terminating action for the repetitive checks by installing a serviceable Captain's or First Officer's seat.

This proposed AD would also require Boeing Special Attention Service Bulletin 777-25-0619, Revision 1, dated August 8, 2018, which the Director of the Federal Register approved for incorporation by reference as of October 8, 2019 (84 FR 45895, September 3, 2019).

This service information is reasonably available because the interested parties have access to it through their normal course of business or by the means identified in the ADDRESSES section.

Proposed AD Requirements in This NPRM

Although this proposed AD does not explicitly restate the requirements of AD 2019-16-05, this proposed AD would retain all of the requirements of AD 2019-16-05. Those requirements are referenced in the service information identified previously, which, in turn, is referenced in paragraphs (g) and (h) of this proposed AD. This proposed AD would also require accomplishment of the actions specified in Boeing Special Attention Service Bulletin 777-25-0607, Revision 2, dated January 27, 2023, and the actions identified as “RC” (required for compliance) in the Accomplishment Instructions of Boeing Special Attention Service Bulletin 777-25-0619, Revision 2, dated January 27, 2023, described previously, except as discussed under “Differences Between this Proposed AD and the Service Information.”

For information on the procedures and compliance times, see this service information at regulations.gov under Docket No. FAA-2023-1879.

Differences Between This Proposed AD and the Service Information

The effectivity of Boeing Special Attention Service Bulletins 777-25-0607 and 777-25-0619, both Revision 2, dated January 27, 2023, is limited to Model 777-200, -200LR, -300, -300ER, and 777F airplanes with specific line numbers. However, the applicability of this proposed AD includes all Model 777-200, -200LR, -300, -300ER, and 777F series airplanes. Because the affected Captain's and First Officer's seats are rotable parts, the FAA has determined that these seats could later be installed on airplanes that were initially delivered with acceptable seats, thereby subjecting those airplanes to the identified unsafe condition.

Where Boeing Special Attention Service Bulletin 777-25-0607, Revision 2, dated January 27, 2023, specifies compliance within 72 months after the original issue date of the service bulletin, this proposed AD would require compliance with those actions within 36 months after the effective date of AD 2019-16-05. The 36-month compliance time corresponds to the compliance time in Boeing Special Attention Service Bulletin 777-25-0619, Revision 2, dated January 27, 2023. The FAA determined during the development of AD 2019-16-05 that a 36-month compliance time was appropriate for doing those actions.

Costs of Compliance

The FAA estimates that this AD, if adopted as proposed, would affect 327 airplanes of U.S. registry. The FAA estimates the following costs to comply with this proposed AD:

Estimated Costs for Required Actions per Seat
Action | Labor cost | Parts cost | Cost per product | Cost on U.S. operators
Identification, seat (retained actions from AD 2019-16-05) | 1 work-hour × $85 per hour = $85 | $0 | $85 | $27,795.
Detailed inspection, horizontal movement system (retained actions from AD 2019-16-05) | 1 work-hour × $85 per hour = $85 | 0 | $85 | $27,795.
Checks, horizontal movement system (retained actions from AD 2019-16-05) | 2 work-hour × $85 per hour = $170 per check cycle | 0 | $170 per check cycle | $55,590 per check cycle.

The FAA estimates the following costs to do any necessary on-condition actions that would be required. The FAA has no way of determining the number of aircraft that might need these on-condition actions:

Estimated Costs of On-Condition Actions per Seat *
Action | Labor cost | Parts cost | Cost per product
Adjustment, control lever cable | 1 work-hour × $85 per hour = $85 | $0 | $85.
Overhaul, horizontal movement system | 11 work-hours × $85 per hour = $935 | Up to $5,824 | Up to $6,759.
Inspection of each seat's fore/aft and vertical manual control levers | 1 work-hour × $85 per hour = $85 | $0 | $85.
Installation of serviceable seats | 1 work-hour × $85 per hour = $85 | $0 | $85.
Clearing FOD | 1 work-hour × $85 per hour = $85 | $0 | $85.
Replacement of the horizontal actuator | 1 work-hour × $85 per hour = $85, per actuator | $7,937 per actuator | $8,022 per actuator.
Functional test, adjusted control lever cable | 1 work-hour × $85 per hour = $85 | $0 | $85.
* The estimated cost for tooling to align an affected seat for adjustment of the control lever cable is up to $46,064.

The FAA has included all known costs in its cost estimate. According to the manufacturer, however, some/all of the costs of this proposed AD may be covered under warranty, thereby reducing the cost impact on affected operators.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-16-05, Amendment 39-19708 (84 FR 45895, September 3, 2019), and

b. Adding the following new AD:

The Boeing Company: Docket No. FAA-2023-1879; Project Identifier AD-2023-00286-T.

(a) Comments Due Date

The FAA must receive comments on this airworthiness directive (AD) by November 13, 2023.

(b) Affected ADs

This AD replaces AD 2019-16-05, Amendment 39-19708 (84 FR 45895, September 3, 2019) (AD 2019-16-05).

(c) Applicability

This AD applies to all The Boeing Company Model 777-200, -200LR, -300, -300ER, and 777F series airplanes, certificated in any category.

(d) Subject

Air Transport Association (ATA) of America Code 25, Equipment/Furnishings.

(e) Unsafe Condition

This AD was prompted by reports of uncommanded fore/aft movement of the Captain's and First Officer's seats. The FAA is issuing this AD to address uncommanded fore/aft movement of the Captain's and First Officer's seats. An uncommanded fore/aft seat movement during a critical part of a flight, such as takeoff or landing, could cause a flight control obstruction or unintended flight control input, which could result in the loss of the ability to control the airplane.

(f) Compliance

Comply with this AD within the compliance times specified, unless already done.

(g) Seat Part Number Identification and On-Condition Actions

Except as specified in paragraph (i) of this AD: At the applicable time specified in Boeing Special Attention Service Bulletin 777-25-0607, Revision 2, dated January 27, 2023, do an inspection to determine the part number, and serial number as applicable, of the Captain's and First Officer's seats, and do all applicable on-condition actions, in accordance with the Accomplishment Instructions of Boeing Special Attention Service Bulletin 777-25-0607, Revision 2, dated January 27, 2023. A review of airplane maintenance records is acceptable in lieu of this inspection if the part number and serial number of the Captain's and First Officer's seats can be conclusively determined from that review.

(h) Detailed Inspection and Repetitive Checks of Horizontal Movement System and On-Condition Actions

Except as specified in paragraph (i) of this AD: At the applicable times specified in paragraph 1.E., “Compliance,” of Boeing Special Attention Service Bulletin 777-25-0619, Revision 2, dated January 27, 2023, do all applicable actions identified as “RC” (required for compliance) in, and in accordance with, the Accomplishment Instructions of Boeing Special Attention Service Bulletin 777-25-0619, Revision 1, dated August 8, 2018, or Revision 2, dated January 27, 2023. As of the effective date of this AD, only Boeing Special Attention Service Bulletin 777-25-0619, Revision 2, dated January 27, 2023, may be used. Actions identified as terminating action in Boeing Special Attention Service Bulletin 777-25-0619, Revision 1, dated August 8, 2018, or Revision 2, dated January 27, 2023, terminate the applicable required actions of this AD, provided the terminating action is done in accordance with the Accomplishment Instructions of Boeing Special Attention Service Bulletin 777-25-0619, Revision 1, dated August 8, 2018, or Revision 2, dated January 27, 2023.

(i) Exceptions to Service Information Specifications

(1) Where Boeing Special Attention Service Bulletin 777-25-0619, Revision 2, dated January 27, 2023, uses the phrase “the Original issue date of this service bulletin,” this AD requires replacing those words with “October 8, 2019 (the effective date of AD 2019-16-05).”

(2) Where Boeing Special Attention Service Bulletin 777-25-0607, Revision 2, dated January 27, 2023, specifies compliance for certain actions “within 72 months after the Original Issue date of this service bulletin,” this AD requires replacing those words with “within 36 months after October 8, 2019 (the effective date of AD 2019-16-05).”

(3) Where Boeing Special Attention Service Bulletin 777-25-0607, Revision 2, dated January 27, 2023, specifies compliance for certain actions “within 36 months after the Revision 2 date of this service bulletin,” this AD requires compliance within 36 months after the effective date of this AD.

(j) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2019-16-05 are approved as AMOCs for the corresponding provisions of this AD.

(5) For service information that contains steps that are labeled as Required for Compliance (RC), the provisions of paragraphs (j)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Courtney Tuck, Aviation Safety Engineer, FAA, 2200 South 216th St., Des Moines, WA 98198; phone: 206-231-3986; email: courtney.k.tuck@faa.gov.

(2) Service information identified in this AD that is not incorporated by reference is available at the addresses specified in paragraphs (l)(5) and (6) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on [DATE 35 DAYS AFTER PUBLICATION OF THE FINAL RULE].

(i) Boeing Special Attention Service Bulletin 777-25-0607, Revision 2, dated January 27, 2023.

(ii) Boeing Special Attention Service Bulletin 777-25-0619, Revision 2, dated January 27, 2023.

(4) The following service information was approved for IBR on October 8, 2019 (84 FR 45895, September 3, 2019).

(i) Boeing Special Attention Service Bulletin 777-25-0619, Revision 1, dated August 8, 2018.

(ii) [Reserved]

(5) For service information identified in this AD, contact Boeing Commercial Airplanes, Attention: Contractual & Data Services (C&DS), 2600 Westminster Blvd., MC 110-SK57, Seal Beach, CA 90740-5600; telephone 562-797-1717; website myboeingfleet.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, fr.inspection@nara.gov, or go to: www.archives.gov/federal-register/cfr/ibr-locations.html.

Issued on September 8, 2023.
Caitlin Locke,
Director, Compliance & Airworthiness Division, Aircraft Certification Service.

[FR Doc. 2023-19797 Filed 9-26-23; 8:45 am]

BILLING CODE 4910-13-P